NATIONAL CREDIT UNION ADMINISTRATION

Sunshine Act Meeting

TIME AND DATE: 10:00 a.m., Thursday, July 31, 2014.

PLACE: Board Room, 7th Floor, Room 7047, 1775 Duke Street (All visitors must use Diagonal Road Entrance) Alexandria, VA 22314-3428.

STATUS: Open.

MATTERS TO BE CONSIDERED:

1. NCUA's Rules and Regulations, Federal Credit Union Ownership of Fixed Assets.

2. Call Federal Credit Union (Richmond, Virginia), Request for Community Charter Expansion.

3. National Credit Union Share Insurance Fund Quarterly Report.

4. NCUA Guaranteed Notes Performance Report.

5. NCUA's 2014 Mid-Year Operating Budget.

RECESS: 11:30 a.m.

TIME AND DATE: 11:45 a.m., Thursday, July 31, 2014.

PLACE: Board Room, 7th Floor, Room 7047, 1775 Duke Street, Alexandria, VA 22314-3428.

STATUS: Closed.

MATTERS TO BE CONSIDERED: 1. Share Insurance Appeals (2). Closed pursuant to Exemption (6).

FOR FURTHER INFORMATION CONTACT: Gerard Poliquin, Secretary of the Board, Telephone: 703-518-6304.

Gerard Poliquin,
Secretary of the Board.

[FR Doc. 2014-17808 Filed 7-24-14; 4:15 pm]

BILLING CODE 7535-01-P